DEPARTMENT OF JUSTICE

Notice of Lodging of Consent Decree in Clean Air Act Action

In accordance with the Department Policy, 28 CFR 50.7, notice is hereby given that a Modified Consent Decree in United States v. Sun Company, Inc., and Atlantic Refining and Marketing Corp., Civil Action No. 94-CV-3246, was lodged with the United States District Court for the Eastern District of Pennsylvania on March 30, 2000. This Consent Decree resolves the United States' claims against defendants Sun Company, Inc. (now known as “Sunoco, Inc.”) and Atlantic Refining & Marketing Corp. for alleged violations of a Consent Decree entered by the court in 1994, resolving alleged violations of the Clean Air Act, 42 U.S.C. 7401 et seq., occurring at defendants' South Philadelphia refinery. The Modified Consent Decree requires the defendants to pay a stipulated penalty of $460,000 and to comply with the terms of the Modified Consent Decree.

The Department of Justice will accept written comments on the proposed Modified Consent Decree for thirty (30) days from the date of publication of this notice. Please address comments to the Assistant Attorney General, Environmental and Natural Resources Division, Department of Justice, P.O. Box 7611, Ben Franklin Station, Washington, D.C. 20044 and refer to United States v. Sun Company, Inc., and Atlantic Refining and Marketing Corp., DOJ #90-5-2-1-1744A.

Copies of the proposed Consent Decree may be examined at the Office of the United States Attorney, Eastern District of Pennsylvania, 615 Chestnut Street, Philadelphia, PA, 12th Floor, 19106 and at EPA Region III, 1650 Arch Street, Philadelphia, PA 19103. A copy of the proposed Consent Decree may be obtained by mail from the United States Department of Justice, Consent Decree Library, P.O. Box 7611, Ben Franklin Station, Washington, D.C. 20044. When requesting a copy of the proposed Consent Decree, please enclose a check to cover the twenty-five cents per page reproduction costs payable to the “Consent Decree Library” in the amount of $8.75, and please reference to United States v. Sun Company, Inc., and Atlantic Refining and Marketing Corp., DOJ #90-5-2-1-1744A.

Joel M. Gross,
Chief, Environmental Enforcement Section, Environmental and Natural Resources Division, Department of Justice.

[FR Doc. 00-9152 Filed 4-12-00; 8:45 am]

BILLING CODE 4410-15-M